NUCLEAR REGULATORY COMMISSION

[Docket No. 50-247-OLA and ASLBP No. 02-789-01-OLA]

Atomic Safety and Licensing Board; In the Matter of Entergy Nuclear Indian Point 2, LLC, and Entergy Nuclear Operations, Inc., (Indian Point Nuclear Generating Unit No. 2); Public Notice of Prehearing Conference

August 2, 2002.

Before Administrative Judges: Michael C. Farrar, Chairman, Dr. Richard F. Cole, Dr. Charles N. Kelber.

The Atomic Safety and Licensing Board presiding over this license amendment proceeding hereby gives public notice that on Tuesday, August 27, 2002, it will hold a prehearing conference at the Hilton Rye Town, 699 Westchester Avenue, Rye Brook, New York. The conference will convene at 9:00 A.M. and conclude by 1:00 P.M. (no lunch break will be taken). The purpose of this prehearing conference is to hear arguments on (1) the standing of petitioner Riverkeeper, Inc. to intervene in the proceeding; (2) the admissibility of Riverkeeper's petition under regulatory standards governing late-filed intervention requests; and (3) the admissibility of any proposed contention(s) which Riverkeeper may file. This notice sets forth the background developments that led to the conference and covers matters related to public attendance and document availability.

A. Background

The issues before the Board in this license amendment proceeding relate to the admissibility of a late-filed intervention petition. The petition submitted by Riverkeeper challenges the pending application of Entergy Nuclear Indian Point 2, LLC and Entergy Nuclear Operations, Inc. (Entergy), the new operators of Indian Point Nuclear Generation Unit No. 2, for a license change that would, in effect, give the operators a one-time five-year extension of the period within which to conduct the “containment integrated leak rate” test that is otherwise required every ten years.

After conducting a review of the application, the NRC Staff issued a Federal Register notice (66 FR 44,161, 44,165 (August 22, 2001)) seeking public comment on its proposal to make a “no significant hazards” determination as to the amendment request. The notice also provided the opportunity for anyone opposed to the amendment “whose interest may be affected” thereby to file within 30 days (by September 21, 2001) a petition to intervene in the proceeding and to request a hearing.

On March 18, 2002, nearly six months after the deadline for intervening, Riverkeeper filed a “Section 2.714 Petition for Leave to Intervene and Request for a Hearing.” Riverkeeper justified its late filing, and its concomitant request for a hearing on the proposed license amendment, by pointing to the then-recent disclosure in the press of the discovery of rusted areas in the reactor containment building. The three participants in this proceeding—-the petitioner Riverkeeper, the licensee Entergy, and the NRC Staff—-have each filed several pleadings since that time, and are expected to be filing additional pleadings before the conference.

B. Public Attendance at Prehearing Conference

Members of the public are welcome to attend the conference, but are advised that this adjudicatory proceeding is open for observation only. In other words, oral presentations at the conference will be limited to the three organizations listed above, which have undertaken the task of full participation in the proceeding.

In accordance with the policies that govern NRC adjudicatory proceedings, members of the public who do attend will be subject to security screening, which may involve the use of metal detectors and the inspection of briefcases and handbags. Signs, banners, posters, and the like are not allowed because they are disruptive to the active participants in the proceeding and to other members of the audience.

C. Availability of Documents

Documents relating to the Entergy Indian Point Nuclear Generating Unit No. 2 license amendment application and the Riverkeeper petition for intervention at issue in this pretrial conference are now on file at the Commission's Public Document Room, 11545 Rockville Pike, Rockville, Maryland, 20850, and may also be obtained through ADAMS, the electronic Agencywide Documents Access and Management System, accessible through the NRC Web site, using the link http://www.nrc.gov/reading-rm/adams.html. Follow the instructions on the Web site to download and install the appropriate ADAMS software onto your computer. After the installation is complete, read the available online instructions on how to search for documents on ADAMS. Documents are commonly accessed by using docket numbers. All publicly available documents relating to the Indian Point proceeding can be accessed by entering 05000247 in the docket field line in the “ADAMS Find” menu.

Dated at Rockville, Maryland, on August 2, 2002.
For the Atomic Safety and Licensing Board.
Michael C. Farrar,
Chairman, Administrative Judge.

[FR Doc. 02-20083 Filed 8-7-02; 8:45 am]

BILLING CODE 7590-01-P